DEPARTMENT OF HOMELAND SECURITY

Coast Guard

33 CFR Part 117

[USCG-2013-0464]

Drawbridge Operation Regulations; Charles River, Boston, MA

AGENCY: Coast Guard, DHS.

ACTION: Notice of temporary deviation from regulations.

SUMMARY: The Commander, First Coast Guard District, has issued a temporary deviation from the regulations governing the operation of the Metropolitan District Commission (Craigie) Bridge across the Charles River, mile 1.0, at Boston, Massachusetts. Under this temporary deviation the bridge may remain in the closed position for two hours on July 4, 2013, to facilitate the Fourth of July Concert and Fireworks. This deviation is necessary to facilitate public safety during a public event.

DATES: This deviation is effective from 10 p.m. on July 4, 2013 through 12 a.m. on July 5, 2013.

ADDRESSES: The docket for this deviation, [USCG-2013-0464] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call John McDonald, Project Officer, First Coast Guard District, at (617) 223-8364. If you have questions on viewing the docket, call Barbara Hairston, Program Manager, Docket Operations, telephone (202) 366-9826.

SUPPLEMENTARY INFORMATION: On June 14th, a temporary deviation from the drawbridge regulation was published in the Federal Register (78 FR 35756) under the same name and docket number. This temporary deviation modifies the times listed on the previously published deviation in which the deviation will be in effect.

The Metropolitan District Commission (Craigie) Bridge, across the Charles River, mile 1.0, at Boston, Massachusetts, has a vertical clearance in the closed position of 13.5 feet at normal pool elevation above the Charles River Dam. The existing drawbridge operation regulations are listed at 33 CFR § 117.591(e).

The waterway is predominantly a recreational waterway supporting various size vessels.

The owner of the bridge, Massachusetts Department of Transportation, requested a temporary deviation to facilitate public safety during a public event, the 2013 Fourth of July Concert and Fireworks.

Under this temporary deviation, in effect from 10 p.m. on July 4, 2013 through 12 a.m. on July 5, 2013, the Metropolitan District Commission (Craigie) Bridge, mile 1.0, across the Charles River at Boston, Massachusetts, may remain in the closed position.

Vessels that can pass under the bridge without a bridge opening may do so at all times.

In accordance with 33 CFR 117.35(e), the bridge must return to its regular operating schedule immediately at the end of the designated time period. This deviation from the operating regulations is authorized under 33 CFR 117.35.

Dated: June 11, 2013.
Gary Kassof,
Bridge Program Manager, First Coast Guard District.

[FR Doc. 2013-14788 Filed 6-20-13; 8:45 am]

BILLING CODE 9110-04-P